DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

West Texas & Lubbock Railway

[Waiver Petition Docket Number FRA-2011-0006]

The West Texas & Lubbock Railway (WTLC) seeks a waiver of compliance from certain provisions of the Railroad Freight Car Safety Standards, specifically 49 CFR 215.303, which requires stenciling to indicate a restricted car. WTLC states that Caboose WTLC X-40 is operated as a shove platform on freight and excursion passenger trains where a run-around track is unavailable. This improves safety, as it eliminates the need for railroad employees to ride the side of freight equipment on long shoving or backup movements. Specifically, this car operates on WTLC's 106.64 miles of track from Lubbock to Seagraves and to Whiteface, TX.

WTLC states that this caboose is completely restored to its “as delivered” appearance as Great Northern X-40, with a sound carbody. The caboose will not be interchanged with any other railroad and will be operated at a speed limit of 25 mph for freight and 30 mph for excursion passenger trains. It typically operates no more than 40 miles in a day. Since Caboose WTLC X-40 is painted and stenciled to reflect its historic (Great Northern) appearance, stenciling the car to meet 49 CFR 215.303 requirements would detract from the historical and educational impression this car is intended to preserve. WTLC has issued a special notice informing all personnel of the 49 CFR 215.203 restricted condition of this caboose.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2011-0006) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review U.S. Department of Transportation's complete Privacy Act Statement in the Federal Register published on April 11, 2000 (Volume 65, Number 70; Pages 19477-78) or at http://www.dot.gov/privacy.html.

Issued in Washington, DC on July 28, 2011.
Robert C. Lauby,
Deputy Associate Administrator for Regulatory and Legislative Operations.

[FR Doc. 2011-19593 Filed 8-2-11; 8:45 am]

BILLING CODE 4910-06-P